DEPARTMENT OF JUSTICE

Antitrust Division

Notice Pursuant to the National Cooperative Research and Production Act of 1993—America's Datahub Consortium

Notice is hereby given that, on December 17, 2025, pursuant to section 6(a) of the National Cooperative Research and Production Act of 1993, 15 U.S.C. 4301 et seq. (“the Act”), America's DataHub Consortium (“ADC”) has filed written notifications simultaneously with the Attorney General and the Federal Trade Commission disclosing changes in its membership. The notifications were filed for the purpose of extending the Act's provisions limiting the recovery of antitrust plaintiffs to actual damages under specified circumstances. Specifically, 5side Strategy LLC, Kensington, MD; datHere, Inc., Parlin, NJ; Defenseeye, Corp., Redmond, WA; Design West Technologies INC, Tustin, CA; Govsignals Inc., New York, NY; Integrity Management Services Inc., Alexandria, VA; Intelligenesis LLC, Columbia, MD; Pistevo Decision LLC, Herndon, VA; Tiber Solutions LLC, Leesburg, VA; Viderity INC, Leesburg, VA; Visual Technologies INC, Hartford, CT; Voiceit Technologies, INC, Eden Prairie, MN; and Vsolvit LLC, Henderson, NV, have been added as parties to this venture.

No other changes have been made in either the membership or planned activity of the group research project. Membership in this group research project remains open, and ADC intends to file additional written notifications disclosing all changes in membership.

On November 11, 2021, ADC filed its original notification pursuant to section 6(a) of the Act. The Department of Justice published a notice in the Federal Register pursuant to section 6(b) of the Act on December 22, 2021 (86 FR 72628).

The last notification was filed with the Department on September 22, 2025. A notice was published in the Federal Register pursuant to section 6(b) of the Act January 20, 2026 (91 FR 2371).

Suzanne Morris,
Deputy Director Civil Enforcement Operations, Antitrust Division.

[FR Doc. 2026-03534 Filed 2-20-26; 8:45 am]

BILLING CODE P